FEDERAL MARITIME COMMISSION

Notice of Agreements Filed

The Commission hereby gives notice of the filing of the following agreements under the Shipping Act of 1984. Interested parties may submit comments, relevant information, or documents regarding the agreements to the Secretary by email at Secretary@fmc.gov, or by mail, Federal Maritime Commission, Washington, DC 20573. Comments will be most helpful to the Commission if received within 12 days of the date this notice appears in the Federal Register. Copies of agreements are available through the Commission's website (www.fmc.gov) or by contacting the Office of Agreements at (202) 523-5793 or tradeanalysis@fmc.gov.

Agreement No.: 201143-019.

Agreement Name: West Coast MTO Agreement.

Parties: APM Terminals Pacific LLC; Fenix Marine Services, Ltd.; Everport Terminal Services, Inc.; International Transportation Service, LLC; LBCT LLC dba Long Beach Container Terminal LLC; Total Terminals International, LLC; West Basin Container Terminal LLC; Pacific Maritime Services, LLC; SSAT (Pier A), LLC; Trapac LLC; Yusen Terminals LLC; and SSA Terminals, LLC.

Filing Party: Wayne Rohde; Cozen O'Connor.

Synopsis: The amendment reflects a change in the name of International Transportation Service.

Proposed Effective Date: 2/25/2021.

Location: https://www2.fmc.gov/FMC.Agreements.Web/Public/AgreementHistory/2090.

Agreement No.: 201288-004.

Agreement Name: Digital Container Shipping Association Agreement.

Parties: Maersk A/S; Hapag-Lloyd AG; CMA CGM S.A.; MSC Mediterranean Shipping Company S.A.; Ocean Network Express Pte. Ltd.; HMM Company Limited; ZIM Integrated Shipping Services Ltd.; Yang Ming Marine Transport Corp.; and Evergreen Marine Corp. (Taiwan) Ltd.

Filing Party: Wayne Rohde; Cozen O'Connor.

Synopsis: The amendment changes the name of Hyundai Merchant Marine Co., Ltd.

Proposed Effective Date: 3/1/2021.

Location: https://www2.fmc.gov/FMC.Agreements.Web/Public/AgreementHistory/21328.

Agreement No.: 201358.

Agreement Name: NPDL/ANLS Slot Charter Agreement.

Parties: Neptune Pacific Direct Line Pte. Ltd. and ANL Singapore Pte. Ltd.

Filing Party: David Monroe; GKG Law, P.C.

Synopsis: The Agreement authorizes Neptune Pacific Direct Line Pte. Ltd. to charter space to ANL Singapore Pte Ltd in the trade between American Samoa and New Zealand.

Proposed Effective Date: 2/25/2021.

Location: https://www2.fmc.gov/FMC.Agreements.Web/Public/AgreementHistory/40502.

Dated: March 4, 2021.
Rachel E. Dickon,
Secretary.

[FR Doc. 2021-04947 Filed 3-9-21; 8:45 am]

BILLING CODE 6730-02-P